ENVIRONMENTAL PROTECTION AGENCY

[FRL-6581-8]

Prospective Purchaser Agreement and Covenant Not To Sue Under the Comprehensive Environmental Response, Compensation, and Liability Act Regarding the Yurgin Motors Superfund Site, Mantua Township, NJ

AGENCY: Environmental Protection Agency.

ACTION: Notice of proposed prospective purchaser agreement and request for public comment.

SUMMARY: In accordance with Section 122(i) of the Comprehensive Environmental Response, Compensation, and Liability Act of 1980, as amended ( CERCLA''), 42 U.S.C. 9601 et seq., the U.S. Environmental Protection Agency (“EPA”) announces a proposed administrative settlement with the Matthew F. Guzzo (The “Settling Party”), a “prospective purchaser” of the Yurgin Motors Superfund Site (“Site”) in Mantua Township, New Jersey. The proposed administrative settlement is memorialized in an Agreement And Covenant Not To Sue (“Agreement”) between EPA and Matthew F. Guzzo. By this Notice, EPA is informing the public of the proposed settlement and of the opportunity to comment.

In 1996 EPA performed a CERCLA removal action at the Site, a wooded lot of some 26 acres in a residential area. The previous owner operated an automotive repair facility at the Site, leaving behind various waste materials containing hazardous substances. During the removal action EPA removed drums, compressed gas cylinders, small containers containing corrosive and ignitable wastes, PCBs, and halogenated solvents from the Site. Now abandoned, the Site is an eyesore with dilapidated buildings and has attracted trash dumpers. Mr. Guzzo has pledged to demolish the buildings, clean up the Site, and remove two empty underground storage tanks. EPA believes this settlement serves the public interest because the Site will be restored to a useful condition.

Under the agreement, Matthew Guzzo will pay $6,500 to EPA and in return will receive a covenant not to sue from the United States for civil liabilities pursuant to Sections 106 and 107(a) of CERCLA, 42 U.S.C. 9606 and 9607(a), with the respect to existing contamination present at the Site.

EPA will consider any comments received during the comment period and may withdraw or withhold consent to the proposed settlement if any comments provide information which indicates the proposed settlement is inappropriate, improper, or inadequate. EPA's response to any comments received will be available for public inspection at the U.S. Environmental Protection Agency, Office of Regional Counsel, 290 Broadway, 17th Floor, New York, New York 10007-1866. Telephone: (212) 637-3142.

Pursuant to EPA guidance, the Agreement may not be issued without the concurrence of the Assistant Attorney General for Environment and natural resources of the U.S. Department of Justice. The Assistant Attorney general has approved the proposed Agreement in writing.

DATES: Comments must be provided within May 19, 2000.

ADDRESSES: Comments should be sent to the U.S. Environmental Protection Agency, Office of Regional Counsel, 290 Broadway, 17th Floor, New York, NY 10007-1866 and should refer to: the Yurgin Motors Superfund Site, U.S. EPA Docket No. II-CERCLA 99-0104.

FOR FURTHER INFORMATION CONTACT: U.S. Environmental Protection Agency, Office of Regional Counsel, 290 Broadway, 17th Floor, New York New York 10007-1866. Telephone: (212) 637-3142.

SUPPLEMENTARY INFORMATION: A copy of the proposed administrative settlement may be obtained in person or by mail from Neil Norrell, U.S. Environmental Protection Agency, 2890 Woodbridge Avenue Edison, New Jersey 08837-3679. Telephone: (732) 321-4357.

Dated: April 6, 2000.
William J. Muszynski,
Acting Regional Administrator, Region II.

[FR Doc. 00-9794 Filed 4-18-00; 8:45 am]

BILLING CODE 6560-50-M